DEPARTMENT OF HOMELAND SECURITY

Transportation Security Administration

Extension of Agency Information Collection Activity Under OMB Review: Airport Security

AGENCY: Transportation Security Administration, DHS.

ACTION: 30-day notice.

SUMMARY: This notice announces that the Transportation Security Administration (TSA) has forwarded the Information Collection Request (ICR), OMB control number 1652-0002, abstracted below, to the Office of Management and Budget (OMB) for review and approval of an extension of the currently-approved collection under the Paperwork Reduction Act. The ICR describes the nature of the information collection and its expected burden. TSA published a Federal Register notice, with a 60-day comment period soliciting comments, of the following collection of information on June 6, 2008, 73 FR 32344. The collection involves implementing certain provisions of the Aviation Security Improvement Act of 1990 and the Aviation and Transportation Security Act that relate to the security of persons and property at airports operating in commercial air transportation.

DATES: Send your comments by October 17, 2008. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, Office of Information and Technology, TSA-32, Transportation Security Administration, 601 South 12th Street, Arlington, VA 22202-4220; telephone (571) 227-3651; facsimile (703) 603-0822.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Airport Security.

Type of Request: Extension of a currently approved collection.

OMB Control Number: 1652-0002.

Forms(s): NA.

Affected Public: Airport operators regulated under 49 CFR part 1542.

Abstract: 49 CFR part 1542, Airport Security, implements certain provisions of the Aviation Security Improvement Act of 1990 (Pub. L. 101-604, November 16, 1990) and the Aviation and Transportation Security Act (Pub. L. 107-71, November 19, 2001), and 49 U.S.C. 44903, relating to the security of persons and property at airports operating in commercial air transportation. TSA is seeking renewal of this information collection because airport security programs are needed to provide for the safety and security of persons and property on an aircraft operating in commercial air transportation against acts of criminal violence, aircraft piracy, and the introduction of an unauthorized weapon, explosive, or incendiary onto an aircraft. The information being collected aids in the effectiveness of passenger screening procedures and other security measures and assists TSA in complying with Congressional mandates. This information collection permits TSA to conduct more effective oversight, planning, and regulatory functions related the airport operators.

Number of Respondents: 458.

Estimated Annual Burden Hours: An estimated 546,018 hours annually.

Issued in Arlington, Virginia, on September 11, 2008.
John Manning,
Acting Director, Business Management Office, Office of Information Technology.

[FR Doc. E8-21750 Filed 9-16-08; 8:45 am]

BILLING CODE 9110-05-P